ENVIRONMENTAL PROTECTION AGENCY

[EPA-HQ-OECA-2009-0124; FRL-8776-5]

Agency Information Collection Activities; Proposed Collection; Comment Request; Auto-Body Compliance Assessment Pilot Project; EPA ICR No. 2344.01, OMB Control No. 2009-NEW

AGENCY: Environmental Protection Agency.

ACTION: Notice.

SUMMARY: In compliance with the Paperwork Reduction Act (PRA) (44 U.S.C. 3501 et seq.), this document announces that EPA is planning to submit a request for a new Information Collection Request (ICR) to the Office of Management and Budget (OMB). If approved, the ICR would allow EPA to pilot in EPA Region 1 (New England) an approach to assessing the effectiveness of compliance assistance in improving environmental performance. The ICR would authorize the administration of surveys, by telephone and on-site, to a random sample of auto-body shops subject to Subpart HHHHHH National Emission Standards for Hazardous Air Pollutants: Paint Stripping and Miscellaneous Surface Coating Operations at Area Sources (NESHAP Subpart HHHHHH). Before submitting the ICR to OMB for review and approval, EPA is soliciting comments on specific aspects of the proposed information collection as described below.

DATES: Comments must be submitted on or before April 27, 2009.

ADDRESSES: Submit your comments identified by Docket ID No. EPA-HQ-OECA-2009-0124. While EPA encourages electronic submittals, you can submit comments by any one of the following methods:

• http://www.regulations.gov: Follow the on-line instructions for submitting comments.

• E-mail: harmon.kenneth@epa.gov.

• Fax: (202) 564-7083.

• Mail: Environmental Protection Agency, Mailcode: 2224A, 1200 Pennsylvania Ave., NW., Washington, DC 20460.

• Hand Delivery: EPA Docket Center, EPA West Room 3334, 1301 Constitution Ave., NW., 20460. Such deliveries are only accepted during the Docket's normal hours of operation, and special arrangements should be made for deliveries of boxed information.

Instructions: Direct your comments to Docket ID No. EPA-HQ-OECA-2009-0124. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov website is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: Kenneth Harmon, Office of Compliance, (2224A), Environmental Protection Agency, 1200 Pennsylvania Ave., NW., Washington, DC 20460; telephone number: (202) 564-7049; fax number: (202) 564-7083; e-mail address: harmon.kenneth@epa.gov.

SUPPLEMENTARY INFORMATION:

How Can I Access the Docket and/or Submit Comments?

EPA has established a public docket for this ICR under Docket ID No. EPA-HQ-OECA-2009-0124, which is available for online viewing at http://www.regulations.gov, or in person viewing at the OECA Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the OECA Docket is 202-566-1752.

Use http://www.regulations.gov to obtain a copy of the draft survey instruments, submit or view public comments, access the index listing of the contents of the docket, and to access those documents in the public docket that are available electronically. Once in the system, select “search,” then key in the docket ID number identified in this document.

What Information Is EPA Particularly Interested in?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What Should I Consider When I Prepare My Comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What Information Collection Activity or ICR Does This Apply to?

Docket ID No. EPA-HQ-OECA-2009-0124.

Affected entities: Entities potentially affected by this action are auto-body repair shops (NAICS code 81112) in EPA Region 1 (comprised of the states of Connecticut, Maine, Massachusetts, New Hampshire, Rhode Island, and Vermont) and subject to NESHAP Subpart HHHHHH, 40 CFR Part 63 (under the authority of the Clean Air Act, 42 U.S.C. 7401, et seq.). Using geographic and demographic factors (and most likely focusing on low-income areas) EPA will select a population or populations from one or more of these states from which to draw a sample of perhaps 1,400 shops to survey. EPA may also survey a control or comparison group of auto-body shops outside of Region 1, if it can identify population of shops with geographic and demographic factors similar to the Region 1 shops in a state where assistance like the assistance in Region 1 has not been offered.

Title: Auto-Body Compliance Assessment Pilot Project

ICR numbers: EPA ICR No. 2344.01, OMB Control No. 2009-NEW.

ICR status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, and are displayed either by publication in the Federal Register or by other appropriate means, such as on the related collection instrument or form, if applicable. The display of OMB control numbers in certain EPA regulations is consolidated in 40 CFR part 9.

Abstract: The purpose of the ICR is to authorize the collection of information by the U.S. Environmental Protection Agency (EPA) to evaluate whether and how EPA's specific compliance assistance activities in Region 1 helped owners/operators of auto-body shops improve their operations. This ICR does not involve “fact-finding” for the purposes of regulatory development or enforcement. The information obtained will not be used to make major policy decisions. No confidential or sensitive data will be collected under this ICR. This is a pilot project designed to help EPA improve its data collection methods and improve its analyses of the Agency's compliance assistance program.

The assistance provided to the auto-body shop owner/operators in this pilot will include: (1) Basic information about the applicable regulations in the form of fact-sheets and post-cards referring the owner/operators to EPA's website for additional information; (2) informational workshops in the communities where auto-body shops are located; and (3) compliance assistance visits to individual auto-body shops. The offered compliance assistance will focus primarily on the requirements of NESHAP Subpart HHHHHH, which becomes effective in March of 2011. The pilot will also provide compliance assistance and collect information related to compliance with hazardous waste management provisions of the Resource Conservation and Recovery Act, pollution prevention indicators, and EPA's Collision Repair Campaign's Survey of Shop Practices.

With this pilot, EPA proposes to administer three sets of telephone surveys and two sets of on-site surveys over the course of three years. EPA will identify for study a population (or populations) of Region I auto-body repair shops that share geographic and demographic characteristics. A focus on low income areas is likely. EPA may also identify, for comparison purposes, a population of auto-body shops outside of Region 1 that share geographic and demographic characteristics with the study population in Region 1, but have not been offered compliance assistance like that offered in Region 1. A random sample of this comparison population would be surveyed at the same intervals as surveys are administered in Region 1.

The first set of telephone surveys of the study population will be conducted in the summer of 2009. EP will collect information both from a random sample of auto-body shops that have been invited to attend a workshop (capturing some who did attend, and some who were invited but did not attend) and from random sample of auto-body shops that were not invited to the workshop that will serve as a comparison group. The telephone survey will be followed by on-site visits to survey a random sample of auto-body shops from the sample populations. The on-site surveys will collect information to assess the shops' then-current environmental performance, validate information collected during a telephone survey, and deliver additional compliance assistance. The second set of telephone surveys at a random sample of auto-body shops in the study population will be conducted in the summer of 2010 to assess the effectiveness of the on-site compliance assistance provided the year before, and to measure changes in auto-body shop behavior.

EPA will conduct the last set of telephone surveys and on-site visits in the spring of 2011. This round of surveys will be conducted at the time of or soon after the NESHAP Subpart HHHHHH March 2011 compliance deadline to assess the final compliance status of a random sample of the study population. On-site visits to a random sample of the study population following this last round of telephone surveys will focus on validating the information collected by the telephone and assessing the degree of compliance.

A respondent's participation in this information collection process will be voluntary. The survey questions are designed to assess whether the assistance provided during the pilot helped the owner/operator understand the applicable environmental regulations, and whether the assistance helped the owner/operator implement operational changes that resulted in improved environmental practices. Improved environmental practices include a change in behavior that resulted in a shop either returning to compliance with regulations or taking steps toward achieving compliance.

Collecting this information will help EPA evaluate the effectiveness of its compliance assistance program by showing if there is a correlation between the compliance assistance provided and an improvement in environmental performance. EPA will also use this information to identify deficiencies and necessary corrective actions in the training, education, and outreach being delivered. In addition to gauging customer satisfaction with the compliance assistance efforts, EPA intends to measure any resulting changes in knowledge or behavior, and evaluate environmental and human health impacts associated with those changes. In particular, the Agency will explore whether observed correlations between behavior changes and assistance provided are statistically valid.

Once EPA completes its analysis of the data collected for this pilot, synthesized findings from the surveys will be shared with the appropriate Agency offices, which may use them to: (a) Identify methods to improve the effectiveness and efficiency of compliance assistance tools and delivery; (b) develop new compliance assistance tools to address identified problem areas; (c) design similar surveys for similar compliance assistance projects; (d) design similar methodologies for program evaluation for similar compliance assistance projects.

EPA anticipates that assessing the results of this pilot and other compliance assistance efforts will lead to improved compliance assistance services and help the Agency explain how such assistance can help support improved environmental management practices. As a result, the information collected as part of compliance assistance assessments could result in improved compliance with environmental regulations.

EPA also collects information about how compliance assistance activities help meet its responsibilities under the 1993 Government Performance Results Act (GPRA) and OMB's Program Assessment Rating Tool (PART). The GPRA requires Federal agencies to develop goals and objectives, measure their performance, and communicate information about their performance to Congress and the public. Under the PART, OMB and Federal agencies assess and improve the agencies' program performance to achieve better results. The PART reinforces the results-oriented performance measurement framework developed under the GPRA.

Burden Statement: The annual public reporting and recordkeeping burden for this collection of information is estimated to average $31.44 for each response to a telephone survey, $94.33 for each response to a first round on-site survey, and $62.89 for each response to a second round on-site survey. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Estimated Total Number of Potential Respondents: 1400.

Frequency of Response: On occasion.

Estimated Total Average Number of Responses for Each Respondent: 2.

Estimated Total Annual Burden Hours: 291.

Estimated Total Annual Costs: $27,450. This includes an estimated burden cost of $27,450 and an estimated cost of $0 for capital investment or maintenance and operational costs.

What Is the Next Step in the Process for This ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: February 19, 2009.
Lisa Lund,
Director, Office of Compliance.

[FR Doc. E9-4010 Filed 2-24-09; 8:45 am]

BILLING CODE 6560-50-P